DEPARTMENT OF THE INTERIOR

Bureau of Land Management

[LLOROR957000-L62510000-PM000: HAG09-0319]

Filing of Plats of Survey: Oregon/Washington

AGENCY: Bureau of Land Management, Interior.

ACTION: Notice.

SUMMARY: The plats of survey of the following described lands are scheduled to be officially filed in the Bureau of Land Management Oregon/Washington State Office, Portland, Oregon 30 days from the date of this publication.

Willamette Meridian

Oregon

T. 22 S., R. 4 W., approved July 6, 2009.

T. 23 S., R. 9 E., approved August 3, 2009.

The plats of survey of the following described lands were officially filed in the Bureau of Land Management Oregon/Washington State Office, Portland, Oregon, on April 22, 2009.

Oregon

T. 1 S., R. 5 W., accepted April 9, 2009.

T. 2 S., R. 5 W., accepted April 9, 2009.

T. 22 S., R. 5 W., accepted April 9, 2009.

T. 22 S., R. 9 W., accepted April 16, 2009.

T. 35 S., R. 3 W., accepted April 16, 2009.

The plat of survey of the following described lands was officially filed in the Bureau of Land Management Oregon/Washington State Office, Portland, Oregon, on June 18, 2009.

Oregon

T. 10 S., R. 1 E., accepted May 14, 2009.

The plat of survey of the following described lands was officially filed in the Bureau of Land Management Oregon/Washington State Office, Portland, Oregon, on July 17, 2009.

Washington

T. 13 N., R. 3 W., accepted June 15, 2009.

ADDRESSES: A copy of the plats may be obtained from the Land Office at the Oregon/Washington State Office, Bureau of Land Management, 333 S.W. 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, 333 S.W. 1st Avenue, Portland, Oregon 97204.

Dated: August 11, 2009.
Fred O'Ferrall,
Branch of Lands and Minerals Resources.

[FR Doc. E9-20206 Filed 8-20-09; 8:45 am]

BILLING CODE 4310-33-P